DEPARTMENT OF AGRICULTURE

Food and Nutrition Service

Child Nutrition Programs: Non-Competitive Technology Innovation Grant Funding

AGENCY: Food and Nutrition Service (FNS), USDA.

ACTION: Notice and request for comment.

SUMMARY: This Notice announces the availability of non-competitive technology innovation grant funding, which will be distributed on a formula basis beginning in fiscal year (FY) 2021 among all eligible State agencies administering the Child Nutrition (CN) Programs and requests comment on this non-competitive approach. This non-competitive grant opportunity replaces the competitive CN Technology Innovation Grants (TIG) previously administered by FNS in FYs 2017 and 2019.

DATES: This non-competitive technology innovation grant funding is anticipated to be announced in late Spring 2021, and distributed to State agencies by late Summer 2021. Written comments must be received on or before June 21, 2021.

FOR FURTHER INFORMATION CONTACT: Requests for additional information or comments concerning this notice may be sent to: J. Kevin Maskornick, Program Monitoring and Operational Support Division, Child Nutrition Programs, Food and Nutrition Service, United States Department of Agriculture, 1320 Braddock Place, Suite 401, Alexandria, Virginia 22314, 703-305-2537 or kevin.maskornick@usda.gov with subject line “CNP Non-Competitive TIG Funding.” Comments may also be sent through the Federal eRulemaking Portal. Go to http://www.regulations.gov, and follow the online instructions for submitting comments electronically.

SUPPLEMENTARY INFORMATION: The non-competitive technology innovation grant funding was authorized by the Further Consolidated Appropriations Act, 2020 (Pub. L. 116-94) and Consolidated Appropriations Act, 2021 (Pub. L. 116-260). Eligible State agencies accepting the non-competitive technology innovation grant funding will be required to submit to FNS, via www.grants.gov, a brief application, including streamlined project and budget narratives, describing the State agency's intended use of the funding. State agencies will have three (3) years to expend the awarded funds and be required to submit bi-annual progress reports and quarterly financial reports to FNS. Final progress and financial status reports will be due 120 days after the termination date of the project. The public is invited to provide comment on the proposed use of the non-competitive grant funding approach described in this FR Notice.

In each FYs 2020 and 2021, FNS received $25 million in State funding for the purpose of developing, improving, and maintaining automated information technology systems used to operate and manage all CN Programs (i.e., the National School Lunch Program, School Breakfast Program, Summer Food Service Program, and Child and Adult Care Food Program). In FY 2021, 54 States and territories (69 State agencies) are administering the CN Programs and therefore eligible to receive this funding. Funding will be offered by FNS to all eligible States and territories in an equal distribution based on total available funds for FYs 2020 and 2021 (i.e., $50 million). In FY 2021, each State will be offered approximately $925,926 for the purposes described above; amounts available in future fiscal years will be subject to the availability of funds and formula adjustments as determined appropriate by FNS. In States where more than one (1) eligible agency administers the CN Programs, the funding will be divided proportionally among those agencies based on the same distribution percentages used in the State Administrative Expense funding formula, as described in Section 7 of the Child Nutrition Act and per Title 7, Part 235 of the Code of Federal Regulations.

Cynthia Long,
Acting Administrator, Food and Nutrition Service.

[FR Doc. 2021-10709 Filed 5-20-21; 8:45 am]

BILLING CODE 3410-30-P